ENVIRONMENTAL PROTECTION AGENCY

[EPA-HQ-OPP-2016-0729; FRL-9961-05]

Registration Review Proposed Interim Decisions for Aliphatic Esters, Mepiquat Chloride and Mepiquat Pentaborate, Propylene Glycol and Dipropylene Glycol, Triethylene Glycol, Bromuconazole, and Case Closures for ADAO, DMHMP, and Nuosept 145; Notice of Availability

AGENCY: Environmental Protection Agency (EPA).

ACTION: Notice.

SUMMARY: This notice announces the availability of EPA's proposed interim registration review decisions and opens a 60-day public comment period on the proposed interim decisions. Registration review is EPA's periodic review of pesticide registrations to ensure that each pesticide continues to satisfy the statutory standard for registration, that is, that the pesticide can perform its intended function without unreasonable adverse effects on human health or the environment. Through this program, EPA is ensuring that each pesticide's registration is based on current scientific and other knowledge, including its effects on human health and the environment.

This document also announces the closure of the registration review cases for Amines, C10-16-alkyldimethyl, N-oxides (ADAO) (Case 5003, and Docket ID Number: EPA-HQ-OPP-2011-0616); 1H-Pyrazole-1-methanol, 3,5-dimethyl (DMHMP) (Case 5035, and Docket ID Number: EPA-HQ-OPP-2011-0619); and Nuosept (Cosan) 145 (Case 3052, and Docket ID Number: EPA-HQ-OPP-2008-0335) because all of the registrations in the U.S. have been cancelled.

DATES: Comments must be received on or before September 5, 2017.

ADDRESSES: Submit your comments, identified by the docket identification (ID) number for the specific pesticide of interest provided in the table in Unit II, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For pesticide specific information, contact: The Chemical Review Manager for the pesticide of interest identified in the table in Unit II.

For general information on the registration review program, contact: Dana Friedman, Pesticide Re-Evaluation Division (7508P), Office of Pesticide Programs, Environmental Protection Agency, 1200 Pennsylvania Ave. NW., Washington, DC 20460-0001; telephone number: (703) 347-8827; email address: friedman.dana@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the table in Unit II.

B. What should I consider as i prepare my comments for EPA?

1. Submitting CBI. Do not submit this information to EPA through regulations.gov or email. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

Pursuant to 40 CFR 155.58, this notice announces the availability of EPA's proposed interim registration review decisions for the pesticides shown in the following table, and opens a 60-day public comment period on the proposed interim decisions.

Table 1—Registration Review Proposed Interim Decisions Being Issued
Registration review case name and No. | Docket ID No. | Chemical review manager and contact information
Aliphatic Esters, Case 4005 | EPA-HQ-OPP-2016-0084 | Brian Kettl, kettl.brian@epa.gov, 703-347-0535.
Mepiquat Chloride and Mepiquat Pentaborate, Case 2375 | EPA-HQ-OPP-2012-0083 | Caitlin Newcamp, newcamp.caitlin@epa.gov, 703-347-0325.
Propylene Glycol and Dipropylene Glycol, Case 3126 | EPA-HQ-OPP-2013-0218 | Megan Block, block.megan@epa.gov, 703-347-0671.
Triethylene Glycol, Case 3146 | EPA-HQ-OPP-2013-0219 | Megan Block, block.megan@epa.gov, 703-347-0671.
Bromuconazole, Case 7035 | EPA-HQ-OPP-2015-0535 | Thomas Harty, harty.thomas@epa.gov, 703-347-0338.

This document also announces the closure of the registration review case for Amines, C10-16-alkyldimethyl, N-oxides (ADAO) (Case 5003, and Docket ID Number: EPA-HQ-OPP-2011-0616); 1H-Pyrazole-1-methanol, 3,5-dimethyl (DMHMP) (Case 5035, and Docket ID Number: EPA-HQ-OPP-2011-0619); and Nuosept (Cosan) 145 (Case 3052, and Docket ID Number: EPA-HQ-OPP-2008-0335) because all of the registrations in the U.S. have been cancelled.

The registration review docket for a pesticide includes earlier documents related to the registration review case. For example, the review opened with a Preliminary Work Plan, for public comment. A Final Work Plan was placed in the docket following public comment on the Preliminary Work Plan.

The documents in the dockets describe EPA's rationales for conducting additional risk assessments for the registration review of the pesticides included in the table in Unit II, as well as the Agency's subsequent risk findings and consideration of possible risk mitigation measures. These proposed interim registration review decisions are supported by the rationales included in those documents.

Following public comment, the Agency will issue interim or final registration review decisions for the pesticides listed in the table in Unit II.

The registration review program is being conducted under congressionally mandated time frames, and EPA recognizes the need both to make timely decisions and to involve the public. Section 3(g) of the Federal Insecticide, Fungicide, and Rodenticide Act (FIFRA) (7 U.S.C. 136a(g)) required EPA to establish by regulation procedures for reviewing pesticide registrations, originally with a goal of reviewing each pesticide's registration every 15 years to ensure that a pesticide continues to meet the FIFRA standard for registration. The Agency's final rule to implement this program was issued in August 2006 and became effective in October 2006, and appears at 40 CFR part 155, subpart C. The Pesticide Registration Improvement Act of 2003 (PRIA) was amended and extended in September 2007. FIFRA, as amended by PRIA in 2007, requires EPA to complete registration review decisions by October 1, 2022, for all pesticides registered as of October 1, 2007.

The registration review final rule at 40 CFR 155.58(a) provides for a minimum 60-day public comment period on all proposed interim registration review decisions. This comment period is intended to provide an opportunity for public input and a mechanism for initiating any necessary amendments to the proposed interim decision. All comments should be submitted using the methods in ADDRESSES, and must be received by EPA on or before the closing date. These comments will become part of the docket for the pesticides included in the table in Unit II. Comments received after the close of the comment period will be marked “late.” EPA is not required to consider these late comments.

The Agency will carefully consider all comments received by the closing date and may provide a “Response to Comments Memorandum” in the docket. The interim registration review decision will explain the effect that any comments had on the interim decision and provide the Agency's response to significant comments.

Background on the registration review program is provided at: http://www.epa.gov/pesticide-reevaluation.

Authority: 7 U.S.C. 136 et seq.

Dated: May 23, 2017.
Yu-Ting Guilaran,
Director, Pesticide Re-Evaluation Division, Office of Pesticide Programs.

[FR Doc. 2017-14096 Filed 7-3-17; 8:45 am]

BILLING CODE 6560-50-P